DEPARTMENT OF THE INTERIOR

Bureau of Land Management

[WY-957-04-1910-BJ-5115]

Filing of Plats of Survey, Nebraska

AGENCY: Bureau of Land Management, Interior.

ACTION: Notice of filing of plats of survey, Nebraska.

SUMMARY: The Bureau of Land Management (BLM) is scheduled to file the plats of surveys of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: These surveys were executed at the request of the Bureau of Indian Affairs and are necessary for the management of these lands. The lands surveyed are:

The plats (in 5 sheets) representing the dependent resurvey of the First Guide Meridian East through T. 25 N., between Rs. 8 and 9 E., a portion of the Sixth Standard Parallel North, through R. 9 E., portions of the east boundary, the north boundary, portions of the subdivisional lines, the subdivision of certain sections, and the adjusted original meanders of the right bank of the Missouri River, the corrective dependent resurvey of certain sections, and the survey of the subdivision of certain sections, and a portion of the present right bank of the Missouri River, Township 25 North, Range 9 East, Sixth Principal Meridian, Nebraska, was accepted March 12, 2004.

Copies of the preceding described plats are available to the public.

Dated: March 16, 2004.
John P. Lee,
Chief Cadastral Surveyor, Division of Support Services.

[FR Doc. 04-6773 Filed 3-25-04; 8:45 am]

BILLING CODE 4467-22-P